FEDERAL COMMUNICATIONS COMMISSION

[Report No. 2752]

Petitions for Reconsideration of Commission Action

January 23, 2006.

Petitions for Reconsideration have been filed in response to the Commission's Order in the proceeding listed in this Public Notice, and published pursuant to 47 CFR 1.106. Notwithstanding any statement to the contrary in any previous public notice, this proceeding is conducted consistently with section 316 of the Communications Act of 1934, 47 U.S.C. 316. The full text of these documents is available for viewing and copying in Room CY-B402, 445 12th Street, SW., Washington, DC or may be purchased from the Commission's copy contractor, Best Copy and Printing, Inc. (BCPI) (1-800-378-3160). Oppositions to these petitions must be filed by February 16, 2006. See section 1.4(b)(1) of the Commission's rules (47 CFR 1.4(b)(1)). Replies to an opposition must be filed within 10 days after the time for filing oppositions have expired.

Subject: In the Matter of Use of Returned Spectrum in the 2 GHz Mobile Satellite Service Frequency Bands (IB Docket Nos. 05-220 & 05-221).

Number of Petitions Filed: 2.

Marlene H. Dortch,
Secretary.

[FR Doc. 06-888 Filed 1-31-06; 8:45 am]

BILLING CODE 6712-01-P